FEDERAL COMMUNICATIONS COMMISSION

47 CFR Part 64

[WC Docket No. 13-39; FCC 13-135; FCC 14-175]

Rural Call Completion Recordkeeping and Reporting Requirements; Correction

AGENCY: Federal Communications Commission.

ACTION: Final rule; correction.

SUMMARY: The Federal Communications Commission (Commission) published a document in the Federal Register on March 4, 2015, concerning its rural call completion recordkeeping and reporting requirements. That document inadvertently omitted reference to the Order on Reconsideration (Reconsideration Order) WC Docket No. 13-39, FCC 14-175, which adopted minor amendments to those requirements. This document corrects that error.

DATES: This correction is effective April 28, 2017.

FOR FURTHER INFORMATION CONTACT: Nirali Patel, Wireline Competition Bureau, Competition Policy Division, (202) 418-7830, or send an email to nirali.patel@fcc.gov.

SUPPLEMENTARY INFORMATION: This document makes the following corrections to the Commission's final rule, FR Doc. No. 2015-04415, published on March 4, 2015, at 80 FR 11594:

1. On page 115494, in the heading of the rule, add “; FCC 14-175” after “FCC 13-135”.

2. On page 11594, in the SUMMARY section, in the first sentence, add “and the Commission's Order on Reconsideration (Reconsideration Order) WC Docket No. 13-39, FCC 14-175.” to the end of the sentence.

3. On page 11594, In the DATES section, add “and the amendments to 47 CFR 64.2101, 64.2103, and 64.2105, published at 79 FR 73227, December 10, 2014, and corrected at 80 FR 1007, January 8, 2015,” after “December 17, 2013” and before “are effective on March 4, 2015.”

4. On page 11594, in the SUPPLEMENTARY INFORMATION section:

i. In the first sentence, add “and the Commission's Reconsideration Order, FCC 14-175, published at 79 FR 73227, December 10, 2014, and corrected at 80 FR 1007, January 8, 2015.” to the end of the sentence;

ii. In the third sentence, add “, and paragraph 66 of document WC Docket No. 13-39, FCC 14-175.” to the end of the sentence; and

iii. In the third column, under the heading “Needs and Uses,” add the following two sentences between the twelfth and thirteenth sentences: “On November 13, 2014, the Commission adopted a Reconsideration Order in WC Docket No. 13-39, FCC 14-175, 79 FR 73227, corrected at 80 FR 1007, Rural Call Completion. The Reconsideration Order reduced the burden on covered providers by excluding certain traffic from the reporting and retention requirements adopted in the Order.”

Federal Communications Commission.
Marlene H. Dortch,
Secretary.

[FR Doc. 2017-08581 Filed 4-27-17; 8:45 am]

BILLING CODE 6712-01-P